DEPARTMENT OF ENERGY

Federal Energy Regulatory Commission

18 CFR Part 40

[Docket No. RM13-5-000; Order No. 791]

Version 5 Critical Infrastructure Protection Reliability Standards

AGENCY: Federal Energy Regulatory Commission.

ACTION: Final rule; correction.

SUMMARY: This document contains corrections to the final rule (RM13-5-000) which was published in the Federal Register of Tuesday, December 3, 2013 (78 FR 72755). The regulations approved certain reliability standards proposed by the North American Electric Reliability Corporation.

DATES: Effective on February 3, 2014.

FOR FURTHER INFORMATION CONTACT: Kevin Ryan (Legal Information), Office of the General Counsel, Federal Energy Regulatory Commission, 888 First Street NE., Washington, DC 20426, Telephone: (202) 502-6840.

SUPPLEMENTARY INFORMATION:

Errata Notice

On November 22, 2013, the Commission issued a Final Rule in the above-captioned proceeding, Version 5 Critical Infrastructure Protection Reliability Standards, 145 FERC ¶ 61,160 (2013).

This errata notice serves to correct P 16. Specifically, the reference to “eighth” in the seventh line of P 16 is changed to “[ninth].” The sentence as revised would thus read, “NERC requests that the CIP version 5 Standards become effective on `the first day of the [ninth] calendar quarter after a Final Rule is issued in this docket.' ²⁷”

In FR Doc. 2013-28628 appearing on page 72758 in the Federal Register of Tuesday, December 3, 2013, the same corrections are made:

Specifically, the reference to “eighth” in the seventh line of P 16 is changed to “[ninth].” The sentence as revised would thus read, “NERC requests that the CIP version 5 Standards become effective on `the first day of the [ninth] calendar quarter after a Final Rule is issued in this docket.' ²⁷”

Dated: December 13, 2013.
Nathaniel J. Davis, Sr.,
Deputy Secretary.

[FR Doc. 2013-30315 Filed 12-19-13; 8:45 am]

BILLING CODE 6717-01-P